DEPARTMENT OF TRANSPORTATION

Surface Transportation Board

[Docket No. FD 35357]

Norfolk Southern Railway Company—Trackage Rights Exemption—The West Tennessee Railroad, LLC

Pursuant to a written trackage rights agreement, The West Tennessee Railroad, LLC (WTNN) has agreed to grant overhead trackage rights to Norfolk Southern Railway Company (NSR) ¹ over approximately 118.9 miles of rail line controlled by WTNN, between milepost IC-406.1 near Fulton, Ky., and milepost IC-525.0 near Ruslor Junction (Corinth), Miss.²

¹ WTNN is a New Jersey limited liability company and NSR is a wholly owned subsidiary of holding company Norfolk Southern Corporation.

² A redacted, executed trackage rights agreement between WTNN and NSR was filed with the notice of exemption. The unredacted version was concurrently filed under seal along with a motion for protective order, which will be addressed in a separate decision.

The transaction may be consummated on or after June 23, 2010, the effective date of the exemption (30 days after the exemption was filed).

The purpose of the transaction is to enable NSR to efficiently route traffic between Fulton and Corinth for further transportation beyond those endpoints.

As a condition to this exemption, any employees affected by the trackage rights will be protected by the conditions imposed in Norfolk and Western Railway—Trackage Rights—Burlington Northern, Inc., 354 I.C.C. 605 (1978), as modified in Mendocino Coast Railway—Lease and Operate—California Western Railroad, 360 I.C.C. 653 (1980), and any employees affected by the discontinuance of those trackage rights will be protected by the conditions set out in Oregon Short Line Railroad and The Union Pacific Railroad—Abandonment Portion Goshen Branch Between Firth and Ammon, in Bingham and Bonneville Counties, Idaho, 360 I.C.C. 91 (1979).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by June 16, 2010 (at least 7 days before the exemption becomes effective). An original and 10 copies of all pleadings, referring to Docket No. FD 35357, must be filed with the Surface Transportation Board, 395 E Street, SW., Washington, DC 20423-0001. In addition, a copy of each pleading must be served on Daniel G. Kruger, Three Commercial Place, Norfolk, Va., 23510.

Board decisions and notices are available on our Web site at “WWW.STB.DOT.GOV.”

Decided: June 4, 2010.
By the Board, Rachel D. Campbell, Director, Office of Proceedings.
Jeffrey Herzig,
Clearance Clerk.

[FR Doc. 2010-13835 Filed 6-8-10; 8:45 am]

BILLING CODE 4915-01-P